Proclamation 10112 of October 30, 2020

National Family Caregivers Month, 2020

By the President of the United States of America

A Proclamation

Each day in homes throughout our Nation, Americans with chronic or terminal illnesses, functional impairment, or disabilities receive compassionate care and support from family members and loved ones. During National Family Caregivers Month, we salute the more than 40 million people in the United States who serve as unpaid caregivers. With generous hearts and faithful devotion, they honor the sanctity of life and affirm the inherent value of all human beings.

Caregivers work long days and spend countless hours to meet and anticipate the needs of their loved ones, often facing challenges that can seem impossible to navigate. Errands, medical appointments, transportation, meal preparation, grooming, and companionship can consume significant time and effort, especially when caregivers must balance these duties with the pressures and responsibilities of their own lives, including employment and raising children. In spite of all of this, these extraordinary moms and dads, sons and daughters, siblings, and friends showcase compassion and selflessness for the ones they love. Their faithfulness and dedication is indicative of the generosity of the American Spirit and reflects the very best of our Nation.

Because of the essential role they play in ensuring the health and wellbeing of those most in need, family caregivers deserve our unending support. In 2018, I signed into law two pieces of legislation, the RAISE Family Caregivers Act and the Supporting Grandparents Raising Grandchildren Act, which provide for the development of strategies and support networks for family caregivers. Over the last year, the Advisory Councils created by these acts have made significant progress toward raising awareness and giving a voice to family caregivers. The work of these Councils, led by the Administration for Community Living at the Department of Health and Human Services (HHS), will yield a National Caregiving Strategy in 2021 that will include recommended actions that States, communities, health systems, and other private-sector entities and stakeholders can take to improve the lives and conditions of family caregivers. Working alongside existing initiatives like HHS' National Family Caregiver Support Program, we are ensuring that family caregivers have the resources they need to provide essential care and support for their loved ones.

Our great veterans living with illness or injury are one of the largest groups who receive care from family members and friends. These caregivers, more than 5 million strong, play a vital role in the lives of these extraordinary men and women who have sacrificed so much for our country. In order to improve services and outcomes for patients and families who are dealing with the stress and uncertainty of caregiving, the Department of Veterans Affairs established the first National Center of Excellence for veteran and caregiver research. The advances made through this initiative, coupled with the resources and capabilities made available through the VA MISSION Act, which I signed into law in 2018, are helping to educate and equip families with the tools they need to provide even better care for our Nation's veterans. America's heroes have earned and deserve our respect and gratitude, and their caregivers deserve the same.

Family caregivers provide a vital lifeline of connection and hope to loved ones during challenging and uncertain days. These caregivers, who devote immeasurable time, energy, resources, and heart, need our understanding, support, gratitude, and encouragement. Throughout this month, let us remember these men and women who spend their days caring for others, and let us pray that they are sustained by grace and strength as they carry on this important work.

NOW, THEREFORE, I, DONALD J. TRUMP, President of the United States of America, by virtue of the authority vested in me by the Constitution and the laws of the United States, do hereby proclaim November 2020 as National Family Caregivers Month. I encourage all Americans to reach out to those who provide care for their family members, friends, and neighbors in need, to honor and thank them.

IN WITNESS WHEREOF, I have hereunto set my hand this thirtieth day of October, in the year of our Lord two thousand twenty, and of the Independence of the United States of America the two hundred and forty-fifth.

[FR Doc. 2020-24741

Filed 11-4-20; 8:45 am]

Billing code 3295-F1-P